DEPARTMENT OF COMMERCE

National Oceanic and Atmospheric Administration

[I.D. 102104A]

Proposed Information Collection; Comment Request; Foreign Fishing Vessel Permit Applications

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 27, 2004.

ADDRESSES: Direct all written comments to Diana Hynek, Departmental Paperwork Clearance Officer, Department of Commerce, Room 6625, 14th and Constitution Avenue, NW, Washington, DC 20230 (or via the Internet at DHynek@doc.gov).

FOR FURTHER INFORMATION CONTACT: Requests for additional information or copies of the information collection instrument and instructions should be directed to Bob Dickinson, F/SF4, Room 13304, 1315 East-West Highway, Silver Spring, MD 20910-3282 (phone (301) 713-2276, ext. 154).

SUPPLEMENTARY INFORMATION:

I. Abstract

Section 204 of the Magnuson-Stevens Fishery Conservation and Management Act and regulations at 50 CFR 600, Subpart F, provide for the issuance of fishing permits to foreign vessels. The information submitted in applications to fish is used to determine whether permits should be issued to authorize directed foreign fishing, participation in joint ventures with U.S. vessels, or transshipments of fish or fish products within U.S. waters.

II. Method of Collection

Paper forms are used.

III. Data

OMB Number: 0648-0089.

Form Number: None.

Type of Review: Regular submission.

Affected public: Business or other for-profit organizations.

Estimated Number of Respondents: 12.

Estimated Time Per Response: 1.5 hours for an application for a directed fishery; 2 hours for a joint venture application; and 45 minutes for a transshipment permit.

Estimated Total Annual Burden Hours: 14.5.

Estimated Total Annual Cost to Public: $4,560.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 19, 2004.
Gwellnar Banks,
Management Analyst, Office of the Chief Information Officer.

[FR Doc. 04-24003 Filed 10-26-04; 8:45 am]

BILLING CODE 3510-22-S